FEDERAL DEPOSIT INSURANCE CORPORATION

Agency Information Collection Activities: Proposed Information Collection; Comment Request

AGENCY: Federal Deposit Insurance Corporation (FDIC).

ACTION: Notice and request for comment.

SUMMARY: The FDIC, as part of its continuing effort to reduce paperwork and respondent burden, invites the general public and other Federal agencies to comment on the proposed renewal of an information collection, as required by the Paperwork Reduction Act of 1995 (44 U.S.C. chapter 35). Currently, the FDIC is soliciting comments concerning a proposed information collection titled “Depositor Claims for Increased Insurance.”

DATES: Comments must be submitted on or before July 6, 2004.

ADDRESSES: Interested parties are invited to submit written comments to Thomas Nixon, Legal Division, Federal Deposit Insurance Corporation, 550 17th Street, NW., Washington, DC 20429. All comments should refer to “Depositor Claims for Increased Insurance.” Comments may be hand-delivered to the guard station at the rear of the 17th Street Building (located on F Street), on business days between 7 a.m. and 5 p.m. Comments may also be submitted to the OMB desk officer for the FDIC: Mark Menchik, Office of Information and Regulatory Affairs, Office of Management and Budget, New Executive Office Building, Washington, DC 20503.

FOR FURTHER INFORMATION CONTACT: Thomas Nixon, (202) 898-8766, or at the address above.

SUPPLEMENTARY INFORMATION: Proposal to renew the following currently approved collection of information:

Title: Depositor Claims for Increased Insurance.

OMB Number: New collection.

Frequency of Response: On occasion.

Affected Public: Depositors of failed insured institutions who own or have an interest in a testamentary deposit account, a trust account, a defined benefit plan, or other retirement account will be required to complete one or more forms.

Estimated Annual Number of Respondents: 5025.

Estimated Time per Response: The time per response will range from one-half hour to one hour depending on the form required.

Estimated Total Annual Burden: 2739 hours.

General Description of Collection: When a bank is closed by the primary regulatory authority, the FDIC has the responsibility to pay the insured claims of the failed bank depositors. When determining insured and uninsured amounts it is often necessary to obtain information from the depositors to ensure adherence to the FDIC's Deposit Insurance Rules and Regulations. The proposed collection will place 15 forms on the FDIC's Web site that will expedite depositors' making insurance claims.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's requests to OMB for renewal of this collection. All comments will become a matter of public record.

Dated at Washington, DC, this 4th day of May, 2004.
Federal Deposit Insurance Corporation.
Robert E. Feldman,
Executive Secretary.

[FR Doc. 04-10478 Filed 5-6-04; 8:45 am]

BILLING CODE 6714-01-P